DEPARTMENT OF COMMERCE

Foreign-Trade Zones Board

[S-138-2022]

Approval of Subzone Status; Burger Boat Company, Manitowoc, Wisconsin

On August 8, 2022, the Executive Secretary of the Foreign-Trade Zones (FTZ) Board docketed an application submitted by Brown County, Wisconsin, grantee of FTZ 167, requesting subzone status subject to the existing activation limit of FTZ 167, on behalf of Burger Boat Company, in Manitowoc, Wisconsin.

The application was processed in accordance with the FTZ Act and Regulations, including notice in the Federal Register inviting public comment (87 FR 49579, August 11, 2022). The FTZ staff examiner reviewed the application and determined that it meets the criteria for approval. Pursuant to the authority delegated to the FTZ Board Executive Secretary (15 CFR 400.36(f)), the application to establish Subzone 167F was approved on November 10, 2022, subject to the FTZ Act and the Board's regulations, including Section 400.13, and further subject to FTZ 167's 2,000-acre activation limit.

Dated: November 10, 2022.
Andrew McGilvray,
Executive Secretary.

[FR Doc. 2022-24938 Filed 11-15-22; 8:45 am]

BILLING CODE 3510-DS-P